DEPARTMENT OF AGRICULTURE

Forest Service

Lawrence County Resource Advisory Committee

AGENCY: Forest Service, USDA.

ACTION: Notice of meeting.

SUMMARY: The Lawrence County Resource Advisory Committee will meet in Spearfish, South Dakota. The committee is meeting as authorized under the Secure Rural Schools and Community Self-Determination Act (Pub. L. 110-343) and in compliance with the Federal Advisory Committee Act. The committee has received several formal project proposals and will be soliciting for additional projects. The purpose of the meeting is to review submitted projects and vote on project proposals to recommend for funding.

DATES: The meeting will be held May 9, 2011 at 5 p.m.

ADDRESSES: The meeting will be held at the Northern Hills Ranger District Office at 2014 N. Main. Written comments should be sent to Rhonda O'Byrne, 2014 N. Main, Spearfish, SD 57783. Comments may also be sent via e-mail to rlobyrne@fs.fed.us, or via facsimile to 605-642-4156.

All comments, including names and addresses when provided, are placed in the record and are available for public inspection and copying. The public may inspect comments received at the Northern Hills Ranger District office. Visitors are encouraged to call ahead at 605-642-4622 to facilitate entry into the building.

FOR FURTHER INFORMATION CONTACT: Rhonda O'Byrne, District Ranger, Northern Hills Ranger District, 605-642-4622.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: Review proposed projects. If Committee members have enough information, they may choose to vote on project proposals submitted to the committee for Title II. Persons who wish to bring related matters to the attention of the Committee may file written statements with the Committee staff before or after the meeting. Public input sessions will be provided and individuals who made written requests by Friday, May 6, 2011 will have the opportunity to address the Committee at those sessions.

Dated: April 25, 2011.
Craig Bobzien,
Forest Supervisor.

[FR Doc. 2011-12403 Filed 5-19-11; 8:45 am]

BILLING CODE 3410-11-P